DEPARTMENT OF THE INTERIOR

National Park Service

[NPS-WASO-NAGPRA-NPS0030307; PPWOCRADN0-PCU00RP14.R50000]

Notice of Intent To Repatriate Cultural Items: The Field Museum of Natural History, Chicago, IL

AGENCY: National Park Service, Interior.

ACTION: Notice.

SUMMARY: The Field Museum of Natural History (Field Museum), in consultation with the appropriate Indian Tribes or Native Hawaiian organizations, has determined that the cultural items listed in this notice meet the definition of unassociated funerary objects. Lineal descendants or representatives of any Indian Tribe or Native Hawaiian organization not identified in this notice that wish to claim these cultural items should submit a written request to the Field Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Field Museum at the address in this notice by July 27, 2020.

ADDRESSES: Helen Robbins, Director of Repatriation, The Field Museum, 1400 S Lake Shore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate cultural items under the control of the Field Museum of Natural History, Chicago, IL, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1900 and 1901, 1403 cultural items were removed from the sites of Awatobi, Chukubi, Kishuba, Mishongnovi, Shongopovi, Sikyatki, and Old Walpi in Navajo County, AZ. The items were removed by Charles Owen over the course of two field seasons. The excavations were sponsored by Stanley McCormick on behalf of the Field Museum of Natural History.

The 109 unassociated funerary objects from Awatobi are: One necklace made of cedar berries, one stone amulet, two cup-like stone formations, three pipes, one chalcedony implement, five chert implements, 12 projectile points, four ceramic mugs, seven ceramic ladles, 10 ceramic jars, 21 ceramic pots, and 42 ceramic bowls.

The 47 unassociated funerary objects from Chukubi are: One ceramic water vessel, one ceramic pitcher, three ceramic ladles, four ceramic pots, five ceramic mugs, five ceramic jars, and 28 ceramic bowls.

The 17 unassociated funerary objects from Kishuba are: Three ceramic ladles, four ceramic bowls, and 10 ceramic mugs.

The 418 unassociated funerary objects from Mishongnovi are: One lot of pebbles, one stone implement, two stone ornaments, two shell ornaments, two flakes of flint, 41 pieces of obsidian, one bone awl, two lots of bone beads, two pieces of burned corn, one mano, two metate, two stone slabs, eight bahos, four ceramic vessels, six ceramics water vessels, 24 ceramic pots, 26 ceramic mugs, 31 ceramic ladles, 39 ceramic jars, and 221 ceramic bowls.

The 28 unassociated funerary objects from Shongopovi are: One stone slab, one ceramic pot, one ceramic water bottler, eight ceramic jars, and 17 ceramic bowls.

The 111 unassociated funerary objects from Sikyatki are: One stone fetish, one stone ornament, one shell ornament, two chunks of hematite, one lot of bone beads, one lot of turquoise beads, two lots of cedar berry beads, four pieces of turquoise earrings, one ceramic olla, three ceramic vessels, three ceramic water vessels, three ceramic mugs, three ceramic ladles, nine ceramic pots, 17 ceramic jars, and 59 ceramic bowls.

The 673 unassociated funerary objects from Old Walpi are: One stone ball, one stone slab, two stone mountain lion fetishes, two pipes, two lots of beads, three pieces of earrings, 45 bahos, three ceramic dishes, five ceramic water vessels, five ceramic pitchers, 10 ceramic vessels, 26 ceramic mugs, 30 ceramic ladles, 163 ceramic pots, 186 ceramic bowls, and 189 ceramic jars.

Owen's field notes and the corresponding field numbers on the items show by a preponderance of evidence that the items were removed from graves. The items were all removed from the Hopi Reservation, and are all culturally affiliated with the Hopi Tribe of Arizona based on academic literature, oral traditional information, and consultation with the Hopi Tribe.

Determinations Made by the Field Museum of Natural History

Officials of the Field Museum of Natural History have determined that:

• Pursuant to 25 U.S.C. 3001(3)(B), the 1,403 cultural items described above are reasonably believed to have been placed with or near individual human remains at the time of death or later as part of the death rite or ceremony and are believed, by a preponderance of the evidence, to have been removed from specific burial sites of Native American individuals.

• Pursuant to 25 U.S.C. 3001(2), there is a relationship of shared group identity that can be reasonably traced between the unassociated funerary objects and the Hopi Tribe of Arizona.

Additional Requestors and Disposition

Lineal descendants or representatives of any Indian Tribe or Native Hawaiian organization not identified in this notice that wish to claim these cultural items should submit a written request with information in support of the claim to Helen Robbins, Director of Repatriation, The Field Museum, 1400 S. Lake Shore Drive, Chicago, IL 60605, telephone (312) 665-7317, email hrobbins@fieldmuseum.org, by July 27, 2020. After that date, if no additional claimants have come forward, transfer of control of the unassociated funerary objects to the Hopi Tribe of Arizona may proceed.

The Field Museum is responsible for notifying the Hopi Tribe of Arizona that this notice has been published.

Dated: May 8, 2020.
Melanie O'Brien,
Manager, National NAGPRA Program.

[FR Doc. 2020-13694 Filed 6-24-20; 8:45 am]

BILLING CODE 4312-52-P